DEPARTMENT OF AGRICULTURE

Agricultural Marketing Service

[Docket No. PY-02-004]

Notice of Request for Extension and Revision of a Currently Approved Information Collection

AGENCY: Agricultural Marketing Service, USDA

ACTION: Notice and request for comments.

SUMMARY: In accordance with the Paperwork Reduction Act of 1995, this notice announces the Agricultural Marketing Service's (AMS) intention to request an extension for a currently approved information collection in support of the shell egg surveillance portion of the Regulations for the Inspection of Eggs—7 CFR part 57.

DATES: Comments on this notice must be received by August 19, 2002.

ADDITIONAL INFORMATION: Contact Shields Jones, Standardization Branch, Poultry Programs, Agricultural Marketing Service, U.S. Department of Agriculture, 1400 Independence Avenue, SW., STOP 0259, Washington, DC 20250-0259, (202) 720-3506.

SUPPLEMENTARY INFORMATION: Title: Regulations for the Inspection of Eggs (Egg Products Inspection Act).

OMB Number: 0581-0113.

Expiration Date of Approval: April 30, 2003.

Type of Request: Extension and revision of a currently approved information collection.

Abstract: Congress enacted the Egg Products Inspection Act (21 U.S.C. 1031-1056) (EPIA) to provide, in part, a mandatory inspection program to control the disposition of dirty and checked shell eggs; to control unwholesome, adulterated, and inedible shell eggs that are unfit for human consumption; and to control the movement and disposition of imported shell eggs.

The Act authorizes the Department to issue regulations, which provide requirements and guidelines, for both the USDA and industry to use as the basis for common understanding to assure that only eggs fit for human food are used for such purpose.

Under the shell egg surveillance program, shell egg handlers are required to register with USDA. Quarterly, a State or Federal surveillance inspector visits each registered handler to verify that shell eggs packed for consumer use are in compliance, that restricted eggs are being disposed of properly, and that adequate records are being maintained.

The information collection and record keeping requirements in this request are essential to carry out the intent of Congress, to administer the mandatory inspection program, and to take regulatory action, in accordance with the regulations and the Act. The forms covered under this collection require the minimum information necessary to effectively carry out the requirements of the regulations, and their use is necessary to fulfill the intent of the Act.

The information collected is used only by authorized representatives: AMS, Poultry Programs' national staff; regional directors and their staffs; Federal-State supervisors and their staffs; and resident Federal-State graders, which includes State agencies. The information is used to assure compliance with the Act and the regulations and to take regulatory action. The Agency is the primary user of the information, with the secondary user each authorized State agency which has a cooperative agreement with AMS.

Estimate of Burden: Public reporting burden for this collection of information is estimated to average 0.30 hours per response.

Respondents: State or local governments, businesses or other for-profit, Federal agencies or employees, small businesses or organizations.

Estimated Number of Respondents: 1,004.

Estimated Number of Responses per Respondent: 6.00.

Estimated Total Annual Burden on Respondents: 1,749 hours.

Comments are invited on: (a) Whether the collection of information is necessary for the proper performance of the functions of the agency, including whether the information will have practical utility; (b) the accuracy of the agency's estimate of burden including the validity of the methodology and assumptions used; (c) ways to enhance the quality, utility, and clarity of the information to be collected; or (d) ways to minimize the burden of the collection of information on those who are to respond, including through the use of appropriate automated, electronic, mechanical, or other technical collection techniques or other forms of information. Comments may be sent to: David Bowden, Standardization Branch, Poultry Programs, Agricultural Marketing Service, U.S. Department of Agriculture, 1400 Independence Avenue, SW., STOP 0259, Washington, DC 20250-0259.

All responses to this notice will be summarized and included in the request for OMB approval. All comments will also become a matter of public record.

Dated: June 14, 2002.
A.J. Yates,
Administrator, Agricultural Marketing Service.

[FR Doc. 02-15508 Filed 6-19-02; 8:45 am]

BILLING CODE 3410-02-P